DEPARTMENT OF HOMELAND SECURITY

Federal Emergency Management Agency

[Docket ID FEMA-2017-0002; Internal Agency Docket No. FEMA-B-1673]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 12, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1673, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: February 16, 2017.
Roy E. Wright,
Deputy Associate Administrator for Insurance and Mitigation, Department of Homeland Security, Federal Emergency Management Agency.

I. Non-watershed-based studies:

Community | Community map repository address
Orange County, California and Incorporated Areas
Maps Available for Inspection Online at: http://www.fema.gov/preliminaryfloodhazarddata
Project: 12-09-1324S Preliminary Date: August 15, 2016
City of Costa Mesa | City Hall, 77 Fair Drive, Costa Mesa, CA 92626.
City of Dana Point | City Hall, 33282 Golden Lantern Street, Dana Point, CA 92629.
City of Fountain Valley | City Hall, 10200 Slater Avenue, Fountain Valley, CA 92708.
City of Huntington Beach | City Hall, 2000 Main Street, Huntington Beach, CA 92648.
City of Irvine | City Hall, 1 Civic Center Plaza, Irvine, CA 92606.
City of Laguna Beach | City Hall, 505 Forest Avenue, Laguna Beach, CA 92651.
City of Laguna Niguel | City Hall, 30111 Crown Valley Parkway, Laguna Niguel, CA 92677.
City of Newport Beach | City Hall, 100 Civic Center Drive, Newport Beach, CA 92660.
City of San Clemente | City Hall, 100 Avenida Presidio, San Clemente, CA 92672.
City of San Juan Capistrano | City Hall, 32400 Paseo Adelanto, San Juan Capistrano, CA 92675.
City of Seal Beach | City Hall, 211 8th Street, Seal Beach, CA 90740.
City of Westminster | City Hall, 8200 Westminster Boulevard, Westminster, CA 92683.
Unincorporated Areas of Orange County | Orange County Flood Control Division, 300 North Flower Street, Santa Ana, CA 92703.
Ventura County, California and Incorporated Areas
Maps Available for Inspection Online at: http://www.fema.gov/preliminaryfloodhazarddata
Project: 12-09-1164S Preliminary Date: September 30, 2016
City of Oxnard | Planning Department, 214 South C Street, Oxnard, CA 93030.
City of Port Hueneme | Public Works Department, 250 North Ventura Road, Port Hueneme, CA 93041.
City of San Buenaventura | San Buenaventura City Hall, 501 Poli Street, Ventura, CA 93001.
Unincorporated Areas of Ventura County | Ventura County Hall of Administration, 800 South Victoria Avenue, Ventura, CA 93009.
Valley County, Idaho and Incorporated Areas
Maps Available for Inspection Online at: http://www.fema.gov/preliminaryfloodhazarddata
Project: 11-10-0105S Preliminary Date: August 26, 2016
City of Cascade | City Hall, 105 South Main Street, Cascade, ID 83611.
City of McCall | City Hall, 216 East Park Street, McCall, ID 83638.
Unincorporated Areas of Valley County | Valley County Courthouse, 219 North Main Street, Cascade, ID 83611.
Nye County, Nevada and Incorporated Areas
Maps Available for Inspection Online at: http://www.fema.gov/preliminaryfloodhazarddata
Project: 16-09-0634S Preliminary Date: April 15, 2016
Unincorporated Areas of Nye County | Nye County Planning Department, 250 North Highway 160, Suite 1, Pahrump, NV 89060.
Curry County, Oregon and Incorporated Areas
Maps Available for Inspection Online at: http://www.fema.gov/preliminaryfloodhazarddata
Project: 12-10-0407S Preliminary Date: August 12, 2016
City of Brookings | Planning Department, City Hall, 898 Elk Drive, Brookings, OR 97415.
City of Gold Beach | City Hall, 29592 Ellensburg Avenue, Gold Beach, OR 97444.
City of Port Orford | Planning Commission, City Hall, 555 West 20th Street, Port Orford, OR 97465.
Unincorporated Areas of Curry County | Curry County Courthouse, 94235 Moore Street, Gold Beach, OR 97444.

[FR Doc. 2017-04833 Filed 3-10-17; 8:45 am]

BILLING CODE 9110-12-P